DEPARTMENT OF HOMELAND SECURITY

Federal Emergency Management Agency

44 CFR Part 67

Final Flood Elevation Determinations

AGENCY: Federal Emergency Management Agency (FEMA), Department of Homeland Security, Mitigation Division.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective Dates: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., CFM, Acting Section Chief, Engineering Management Section, Mitigation Division, 500 C Street, SW., Washington, DC 20472, (202) 646-3151.

SUPPLEMENTARY INFORMATION: FEMA makes the final determinations listed below for the modified BFEs for each community listed. These modified elevations have been published in newspapers of local circulation and ninety (90) days have elapsed since that publication. The Mitigation Division Director has resolved any appeals resulting from this notification.

This final rule is issued in accordance with Section 110 of the Flood Disaster Protection Act of 1973, 42 U.S.C. 4104, and 44 CFR part 67. The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. As flood elevation determinations are not within the scope of the Regulatory Flexibility Act, 5 U.S.C. 601-612, a regulatory flexibility analysis is not required.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/ county | Source of flooding | Location | #Depth in feet above ground *Elevation in feet (NGVD) +Elevation in feet (NAVD) Modified
Columbia County, Arkansas
Docket No.: FEMA-B-7456
Arkansas | Columbia County | Nations Creek | Approximately 500 feet downstream from Nations Creek and Calhoun Road | +269
|  |  | Approximately 7,000 feet upstream from Nations Creek and Highway 82 | +285
| Columbia County | Barlow Branch | Approximately 2,500 feet downstream from Highway 82 and Barlow Branch | +259
|  |  | Approximately 1,200 feet downstream from Highway 371 and Barlow Branch | +267
| Columbia County | Tributary to Barlow Branch | Confluence of Barlow Branch and Tributary to Barlow Branch | +262
|  |  | Intersection of the Louisiana and Northwest Railway and Tributary to Barlow Branch | +277
| Columbia County | Tributary to Big Creek | Approximately 2,900 feet upstream from the confluence of Big Creek and Tributary to Big Creek | +252
|  |  | Approximately 2,400 feet downstream from Height Street and Tributary to Big Creek | +258
| Columbia County | Tanyard Branch | Approximately 1,800 feet downstream from Tanyard Branch and the Louisiana and Northwest Railway | +264
|  |  | Approximately 600 feet downstream from Tanyard Branch and the Louisiana and Northwest Railway | +266
# Depth in feet above ground.
* National Geodetic Vertical Datum.
+ North American Vertical Datum.
ADDRESSES
Unincorporated Areas of Columbia County
Maps are available for inspection at the Columbia County Courthouse, Court #1 Square, Magnolia, AR 71753.
Mount Vernon, South Dakota
Docket No.: FEMA-B-7456
South Dakota | City of Mt. Vernon | Dry Run Creek | At 7th Street | +1400
|  |  | Approximately 300 feet upstream of West Railroad Street | +1412
|  | East Drainage | Approximately 400 feet upstream of Main Street | +1411
|  |  | At 397th Avenue | +1415
|  | Diversion | At intersection 397th Avenue and 253rd Street | +1405
|  |  | At Railroad Street | +1417
# Depth in feet above ground.
* National Geodetic Vertical Datum.
+ North American Vertical Datum.
ADDRESSES
City of Mt. Vernon
Maps are available for inspection at the Mount Vernon Community Center, 500 North Main Street, Mt. Vernon South Dakota 57363.
Teton County, Wyoming
(FEMA Docket No. B-7456)
Wyoming | Teton County | Flat Creek | Just upstream of High School Road | *6113
| Town of Jackson |  | Just upstream of U.S. Highway 26 | *6214
| Teton County | Spring Creek | Approximately 1400 feet downstream of Tribal Trail Road | *6125
| Town of Jackson | Approximately 400 feet upstream of U.S. Highway 22 | *6158
# Depth in feet above ground.
* National Geodetic Vertical Datum.
+ North American Vertical Datum.
ADDRESSES
Unincorporated Areas of Teton County
Maps are available for inspection at the Teton County Administration Building, 200 South Willow, Jackson, Wyoming 83001.
Town of Jackson
Maps are available for inspection at Town Hall, 150 East Pearl Avenue, Jackson, Wyoming 83001.

Flooding source(s) | Location of referenced elevation | * Elevation in feet (NGVD) + Elevation in feet (NAVD) # Depth in feet above ground Modified | Communities affected
San Diego County and Incorporated Areas
Docket No.: FEMA-B-7456
Agua Hedionda Creek | Approximately 1,400 feet downstream of Melrose Drive. | * 308 | City of Vista.
| Approximately 200 feet downstream of confluence with Buena Creek | * 353
# Depth in feet above ground.
* National Geodetic Vertical Datum.
+ North American Vertical Datum.
ADDRESSES
City of Vista | Maps are available for inspection at the City Hall, 600 Eucalyptus Avenue, Vista, CA 92084.
Boulder County, Colorado and Incorporated Areas
Docket No.: FEMA-B-7456
Skunk Creek | Approximately 50 feet upstream of 30th Street Bridge | + 5,312 | City of Boulder.
| Approximately 520 feet upstream of 30th Street | + 5,322
# Depth in feet above ground.
* National Geodetic Vertical Datum.
+ North American Vertical Datum.
ADDRESSES
City of Boulder
Maps are available for inspection at Central Records Department, 1777 Broadway, Boulder, Colorado 80302.
Dixie County, Florida and Incorporated Areas
Docket No.: FEMA-B-7457
Suwannee River | Approximately 14.4 miles downstream of U.S. Route 19 | + 12 | Dixie County (Unincorporated Areas).
| Approximately 2.8 miles upstream of County Highway 340 | + 28
# Depth in feet above ground.
* National Geodetic Vertical Datum.
+ North American Vertical Datum.
ADDRESSES
Dixie County (Unincorporated Areas)
Maps available for inspection at the Dixie County Planning and Zoning Department, 405 Southeast 22nd Avenue, Cross City, Florida.
Escambia County, Florida and Incorporated Areas
Docket No.: FEMA-B-7457
Tributary to Elevenmile Creek | Approximately 750 feet upstream of the confluence with Elevenmile Creek | + 36 | Escambia County (Unincorporated Areas).
| Approximately 2.83 miles upstream of the confluence with Elevenmile Creek | + 74
Carpenters Creek | Approximately 1,120 feet upstream of 12th Avenue | + 10 | Escambia County (Unincorporated Areas) and City of Pensacola.
| Approximately 1,833 feet upstream of Interstate 10 | + 84
Tributary to Carpenters Creek | At the confluence with Carpenters Creek | + 64 | Escambia County (Unincorporated Areas).
| Approximately 1,260 feet upstream of Dirt Road | + 84
Tributary to Bridge Creek (West) | At the confluence with Bridge Creek | + 16 | Escambia County (Unincorporated Areas).
| Approximately 2,650 feet upstream of the confluence with Bridge Creek | + 24
Tributary to Bridge Creek (East) | At the confluence with Bridge Creek | + 16 | Escambia County (Unincorporated Areas).
| Approximately 2,500 feet upstream of the confluence with Bridge Creek | + 20
Tributary 1 to Bayou Grande | At the confluence with Bayou Grande | + 9 | Escambia County (Unincorporated Areas).
| Approximately 1,000 feet upstream of Blue Angel Parkway | + 20
Tributary 2 to Bayou Grande | At the confluence with Bayou Grande | + 7 | Escambia County (Unincorporated Areas).
| Approximately 2,200 feet upstream of Gulf Beach Boulevard | + 20
Tributary 3 to Bayou Grande | At the confluence with Bayou Grande | + 7 | Escambia County (Unincorporated Areas).
| Approximately 0.8 mile upstream of Blue Angel Parkway | + 26
Tributary 4 to Bayou Grande | At the confluence with Bayou Grande | + 7 | Escambia County (Unincorporated Areas).
| Approximately 2,750 feet upstream of the confluence with Bayou Grande | + 16
# Depth in feet above ground.
* National Geodetic Vertical Datum.
+ North American Vertical Datum.
ADDRESSES
City of Pensacola
Maps available for inspection at the City of Pensacola Inspection Services, 14 West Jordan Street, Pensacola, Florida.
Escambia County (Unincorporated Areas)
Maps available for inspection at the Escambia County Building Inspections, 3300 North Pace Boulevard, Suite 300, Pensacola, Florida.
Gilchrist County Florida and Incorporated Areas
Docket No.: FEMA-B-7457
Suwannee River | Approximately 1.7 miles downstream of U.S. Route 19 | + 19 | City of Fanning Springs, Gilchrist County (Unincorporated Areas).
| Approximately 8.2 miles upstream of Highway 340 | + 31
Santa Fe River | Approximately 2.8 miles upstream of State Route 47 | +37 | City of Fanning Springs, Gilchrist County (Unincorporated Areas).
| Approximately 5.9 miles upstream of State Route 47 | +40
# Depth in feet above ground.
* National Geodetic Vertical Datum.
+ North American Vertical Datum.
ADDRESSES
City of Fanning Springs
Maps available for inspection at the Fanning Springs City Hall, 17651 Northwest 90th Court, Fanning Springs, Florida.
Gilchrist County (Unincorporated Areas)
Maps available for inspection at the Gilchrist County Building and Zoning Department, 209 Southeast First Street, Trenton, Florida.
Lafayette County Florida and Incorporated Areas
Docket No.: FEMA-B-7457
Suwannee River | Approximately 14.5 miles downstream of U.S. Highway 27 | +28 | Lafayette County (Unincorporated Areas).
| Approximately 10,000 feet upstream of County Road 250 | +59
# Depth in feet above ground.
* National Geodetic Vertical Datum.
+ North American Vertical Datum.
ADDRESSES
Lafeyette County (Unincorporated Areas)
Maps available for inspection at the Lafayette County Building and Zoning Department, 120 West Main Street, Mayo, Florida.
Cherokee County Georgia and Incorporated Areas
Docket No.: FEMA-B-7456
Tate Creek | Approximately 1,350 feet downstream of Yorkshire Drive | +897 | City of Woodstock, Cherokee County (Unincorporated Areas).
| Approximately 4,900 feet upstream of Flood Retarding Structure No. 17 | +944
# Depth in feet above ground.
* National Geodetic Vertical Datum.
+ North American Vertical Datum.
¹ The existing elevation data included on the effective FIRM is printed in the elevation datum of the National Geodetic Vertical Datum of 1929 (NGVD29). In order to convert this printed elevation data from the NGVD29 datum to the NAVD88 datum, please add 0.10 feet.
ADDRESSES
Cherokee County (Unincorporated Areas)
Maps are available for inspection at 130 East Main Street, Suite 106, Canton, Georgia.
City of Woodstock
Maps are available for inspection at 103 Arnold Mill Road, Woodstock, Georgia.
Gwinnett County, Georgia and Incorporated Areas
Docket No.: FEMA-B-7457
Alcovy River | At the county boundary | +784 | Gwinnett County (Unincorporated Areas).
| Approximately 4,420 feet upstream of Old Fountain Road | +1074
Tributary A | At the confluence with Alcovy River | +795 | Gwinnett County (Unincorporated Areas).
| Approximately 3,615 feet upstream of Callie Still Road | +844
Tributary B | At the confluence with Alcovy River | +989 | Gwinnett County (Unincorporated Areas).
| Approximately 2,055 feet upstream of Hood Road | +1,012
Apalachee River | At the county boundary | +823 | Gwinnett County (Unincorporated Areas).
| Approximately 12,240 feet upstream of Old Fountain Road | +1,107
Tributary No. 1 | At the county boundary | +826 | Gwinnett County (Unincorporated Areas).
| Approximately 4,615 feet upstream of Bold Springs Road | +992 |
Tributary No. 3 | At the confluence with Apalachee River | +887 | Gwinnett County (Unincorporated Areas).
| Approximately 2,325 feet upstream of Old Freemans Mill Road | +942
Tributary No. 4 | At the confluence with Apalachee River | +908 | Gwinnett County (Unincorporated Areas).
| Approximately 5,900 feet upstream of Bailey Road | +966
Bay Creek | At the county boundary | +794 | Gwinnett County (Unincorporated Areas).
| Approximately 590 feet upstream of Briscoe Road | +960
Beaver Ruin Creek | At the confluence with Sweetwater Creek | +862 | Gwinnett County (Unincorporated Areas).
| Approximately 2,690 feet upstream of Everglades Trail | +978
Tributary No. 1 | At the confluence with Beaver Ruin Creek | +905 | City of Norcross, Gwinnett County (Unincorporated Areas).
| Approximately 200 feet upstream of Live Oak Parkway | +983
Tributary No. 2 | At the confluence with Beaver Ruin Creek | +933 | City of Norcross, Gwinnett County (Unincorporated Areas).
| Approximately 150 feet upstream of North Norcross Tucker Road | +963
Bell Creek | At the confluence with Suwanee Creek | +926 | City of Suwanee, Gwinnett County (Unincorporated Areas).
| Approximately 1,280 feet upstream of Lake Louella Dam | +974
Berkeley Lake (Mill Creek Tributary (Stream 6.1)) | Entire shoreline | +977 | City of Berkeley Lake.
Big Haynes Creek | At the county boundary | +849 | City of Snellville, Gwinnett County (Unincorporated Areas).
| Approximately 100 feet upstream of Hillside Drive | +956
Tributary A | At the confluence with Big Haynes Creek | +883 | City of Snellville, Gwinnett County (Unincorporated Areas).
| Approximately 1,490 feet upstream of Athens Highway/U.S. Highway 78/State Highway 10 | +945
Bromolow Creek | At the confluence with Beaver Ruin Creek | +866 | City of Duluth, Gwinnett County (Unincorporated Areas).
| Approximately 5,450 feet upstream of Old Norcross Road | +979
Tributary No. 1 | At the confluence with Bromolow Creek | +889 | Gwinnett County (Unincorporated Areas).
| Approximately 1,560 feet upstream of U.S. Highway 231/State Highway 13/Buford Highway | +979
Tributary No. 1.1 | At the confluence with Bromolow Creek Tributary No. 1 | +913 | Gwinnett County (Unincorporated Areas).
| Approximately 200 feet upstream of Bailey Drive | +963
Brushy Creek | Approximately 3,080 feet upstream of the confluence with the Chattahoochee River | +910 | City of Suwanee, Gwinnett County (Unincorporated Areas).
| Approximately 130 feet upstream of Suwanee Dam Road Northwest | +1,014
Brushy Fork Creek | At the confluence with Big Haynes Creek | +850 | Gwinnett County (Unincorporated Areas).
| Approximately 1,890 feet upstream of Athens Highway/U.S. Highway 78/State Highway 10 | +980
Tributary A | At the confluence with Brushy Creek | +915 | Gwinnett County (Unincorporated Areas).
| Approximately 1,650 feet upstream of SCS Dam 22 | +949
Camp Creek | Approximately 600 feet upstream of the confluence with Jackson Creek | +869 | City of Lilburn, Gwinnett County (Unincorporated Areas).
| At the county boundary | +947
Tributary No. 1 | At the confluence with Camp Creek | +909 | City of Lilburn, Gwinnett County (Unincorporated Areas).
| Approximately 320 feet upstream of Harmony Grove Road | +950
Cedar Creek Northwest | At the confluence with Alcovy River | +952 | Gwinnett County (Unincorporated Areas).
| Just upstream of Progress Center Avenue | +1,000
Cedar Creek Northwest Tributary | At the confluence with Cedar Creek Northwest | +989 | City of Lawrenceville, Gwinnett County (Unincorporated Areas).
| Approximately 4,950 feet above the confluence with Cedar Creek Northwest | +1,012
Cedar Creek Southeast | At the county boundary | +793 | Gwinnett County (Unincorporated Areas).
| Approximately 1,555 feet upstream of New Hope Road | +891
Centerville Creek | Approximately 560 feet upstream of the confluence with the Yellow River | +748 | Gwinnett County (Unincorporated Areas).
| Approximately 770 feet upstream of Johnson Drive | +857
Crooked Creek | At the county boundary | +887 | Gwinnett County (Unincorporated Areas).
| Approximately 3,280 feet upstream of Peachtree Corners Circle | +912
Tributary A | At the confluence with Crooked Creek | +896 | Gwinnett County (Unincorporated Areas).
| Approximately 4,520 feet upstream of Jones Mill Road | +941
Tributary No. 1 | At the confluence with Crooked Creek | +902 | Gwinnett County (Unincorporated Areas).
| Approximately 1,900 feet upstream of the confluence with Crooked Creek | +918
Tributary No. 2 | Approximately 200 feet upstream of the confluence with Crooked Creek | +906 | Gwinnett County (Unincorporated Areas).
| Approximately 600 feet upstream of Engineering Drive | +958
Tributary No. 2.1 | At the confluence with Crooked Creek Tributary No. 2 | +923 | City of Norcross, Gwinnett County (Unincorporated Areas).
| Approximately 515 feet upstream of Sunset Drive (upstream crossing) | +971
Tributary No. 2.1.1 | At confluence with Crooked Creek Tributary No. 2.1 | +944 | City of Norcross.
| Approximately 2,000 feet upstream of Olde Town Park Drive | +986
Do Little Creek | At the confluence with No Business Creek | +760 | Gwinnett County (Unincorporated Areas).
| Approximately 655 feet upstream of Snow Trail | +854
Doc Moore Branch | At the confluence with No Business Creek | +746 | Gwinnett County (Unincorporated Areas).
| Approximately 450 feet upstream of Brittan Glade Trail | +814
Drowning Creek (Apalachee River Tributary No. 2) | At the confluence with Apalachee River | +858 | City of Dacula, Gwinnett County (Unincorporated Areas).
| Just upstream of State Highway 316 | +1,001
Duncan Creek | Approximately 260 feet downstream of the Gwinnett/Barrow County boundary | +816 | Town of Braselton, Gwinnett County (Unincorporated Areas).
| Approximately 2,290 feet upstream of East Rock Quarry Road | +1,080
Garner Creek | At the confluence with the Yellow River | +826 | Gwinnett County (Unincorporated Areas).
| Approximately 250 feet upstream of Lilburn Stone Mountain Road | +988
Tributary No. 1 | At the confluence with Garner Creek | +939 | Gwinnett County (Unincorporated Areas).
| Approximately 940 feet upstream of Breathitt Drive | +981
Tributary No. 2 | Approximately 60 feet upstream of the confluence with Garner Creek | +963 | Gwinnett County (Unincorporated Areas).
| Approximately 1,635 feet upstream of the confluence with Garner Creek | +982
Hale Creek | At the confluence with Garner Creek | +864 | City of Lilburn, Gwinnett County (Unincorporated Areas).
| Approximately 440 feet upstream of Lilburn Stone Mountain Road | +935
Hale Creek Tributary | At the confluence with Hale Creek | +870 | Gwinnett County (Unincorporated Areas).
| Approximately 980 feet upstream of Baltimore Avenue | +908
Hopkins Creek | At the confluence with Alcovy River | +871 | City of Dacula, Gwinnett County (Unincorporated Areas).
| Approximately 1,320 feet upstream of Fence Road | +1,009
Ivy Creek | At the confluence with Suwanee Creek | +956 | City of Suwanee, Gwinnett County (Unincorporated Areas).
| Approximately 160 feet upstream of Thompson Mill Road | +1,121
Ivy Creek Tributary | At the confluence with Ivy Creek | +1,044 | Gwinnett County (Unincorporated Areas).
| Approximately 160 feet upstream of Camp Branch Road | +1,129
Jacks Creek | At the confluence with the Yellow River | +788 | Gwinnett County (Unincorporated Areas).
| Approximately 620 feet upstream of Parkwood Drive | +954
Garner Creek Tributary No. 2 | Approximately 60 feet upstream of the confluence with Garner Creek | +963 | Gwinnett County (Unincorporated Areas).
| Approximately 1,635 feet upstream of the confluence with Garner Creek | +982
Hale Creek | At the confluence with Garner Creek | +864 | City of Lilburn, Gwinnett County (Unincorporated Areas).
| Approximately 440 feet upstream of Lilburn Stone Mountain Road | +935
Hale Creek Tributary | At the confluence with Hale Creek | +870 | Gwinnett County (Unincorporated Areas).
| Approximately 980 feet upstream of Baltimore Avenue | +908
Hopkins Creek | At the confluence with Alcovy River | +871 | City of Dacula, Gwinnett County (Unincorporated Areas).
| Approximately 1,320 feet upstream of Fence Road | +1,009
Ivy Creek | At the confluence with Suwanee Creek | +956 | City of Suwanee, Gwinnett County (Unincorporated Areas).
| Approximately 160 feet upstream of Thompson Mill Road | +1,121
Ivy Creek Tributary | At the confluence with Ivy Creek | +1,044 | Gwinnett County (Unincorporated Areas).
| Approximately 160 feet upstream of Camp Branch Road | +1,129
Jacks Creek | At the confluence with the Yellow River | +788 | Gwinnett County (Unincorporated Areas).
| Approximately 620 feet upstream of Parkwood Drive | +954
Jackson Creek | At the confluence with Sweetwater Creek | +858 | City of Lilburn, Gwinnett County (Unincorporated Areas).
| Just upstream of Old Norcross Tucker Road | +960
Tributary No. 1 | At the confluence with Jackson Creek | +893 | Gwinnett County (Unincorporated Areas).
| Approximately 275 feet upstream of Button Gwinnett Place | +935
Tributary No. 2 | At the confluence with Jackson Creek | +903 | Gwinnett County (Unincorporated Areas).
| Just upstream of Meadow Brook Drive | +957
Knox Branch | At the confluence with Sweetwater Creek | +939 | City of Duluth, Gwinnett County (Unincorporated Areas).
| Just downstream of Lake Norman Dam | +962
Lake Norman (Knox Branch) | Entire shoreline | +992 | City of Duluth.
Lake No. 1 (Little Suwanee Creek Tributary No. 1) | Entire shoreline | +989 | Gwinnett County (Unincorporated Areas).
Lake No. 2 (Sweetwater Creek) | Entire shoreline | +961 | Gwinnett County (Unincorporated Areas).
Lanier Creek | At the confluence with Bromolow Creek | +866 | Gwinnett County (Unincorporated Areas).
| Approximately 375 feet upstream of Interstate Highway 85 | +926
Lee Daniel Creek | At the confluence with Sweetwater Creek | +879 | Gwinnett County (Unincorporated Areas).
| Approximately 520 feet upstream of Sugarloaf Parkway | +987
Tributary No. 1 | At the confluence with Lee Daniel Creek | +884 | Gwinnett County (Unincorporated Areas).
| Approximately 270 feet upstream of Duluth Highway/State Highway 120 | +953
Tributary No. 1.1 | Approximately 30 feet upstream of the confluence with Lee Daniel Creek Tributary No. 1 | +914 | Gwinnett County (Unincorporated Areas).
| Approximately 870 feet upstream of Sugarloaf Parkway | +949
Level Creek | Approximately 2,200 feet upstream of the confluence with the Chattahoochee River | +915 | City of Sugar Hill, City of Suwanee, Gwinnett County (Unincorporated Areas).
| Just upstream of Peachtree Industrial Boulevard | +1,048
Tributary No. 1 | At the confluence with Level Creek | +955 | City of Suwanee, Gwinnett County (Unincorporated Areas).
| Just upstream of Suwanee Dam Road | +1,007
Tributary No. 2 | At the confluence with Level Creek | +973 | City of Sugar Hill, Gwinnett County (Unincorporated Areas).
| Approximately 170 feet upstream of Sugar Ridge Drive | +1,022
Little Ivy Creek | At the confluence with Ivy Creek | +1,023 | Gwinnett County (Unincorporated Areas).
| Approximately 160 feet upstream of Ivy Lake Drive | +1,141
Little Mulberry River | Approximately 160 feet downstream of the county boundary | +833 | Gwinnett County (Unincorporated Areas).
| Approximately 350 feet upstream of Millwater Crossing | +988
Tributary A | At the confluence with Little Mulberry River | +844 | Gwinnett County (Unincorporated Areas).
| Approximately 260 feet upstream of Mineral Springs Road | +987
Tributary B | At the confluence with Little Mulberry River | +847 | Gwinnett County (Unincorporated Areas).
| Approximately 165 feet upstream of Hog Mountain Road | +931
Tributary C | At the confluence with Little Mulberry River | +857 | Gwinnett County (Unincorporated Areas).
| Approximately 545 feet upstream of Hog Mountain Road | +885
Tributary D | At the confluence with Little Mulberry River | +894 | Gwinnett County (Unincorporated Areas).
| Approximately 260 feet upstream of Hog Mountain Road | +898
Tributary E | At the confluence with Little Mulberry River | +894 | Gwinnett County (Unincorporated Areas).
| Approximately 560 feet upstream of Patrick Road | +932
Little Suwanee Creek | At the confluence with Yellow River | +933 | City of Lawrenceville, Gwinnett County (Unincorporated Areas).
| Approximately 590 feet upstream of Buford Drive/State Highway 20 | +1,072
Tributary No. 1 | At the confluence with Little Suwanee Creek | +954 | Gwinnett County (Unincorporated Areas).
| Just downstream of SCS Dam Y-16 | +966
Lucky Shoals Creek | At the confluence with Jackson Creek | +930 | Gwinnett County (Unincorporated Areas).
| Just upstream of Old Norcross Tucker Road | +952
Mill Creek | At the confluence with Suwanee Creek | +929 | City of Suwanee, Gwinnett County (Unincorporated Areas).
| Just upstream of Satellite Boulevard | +991
Mill Creek (Stream 6) | Approximately 930 feet upstream of the confluence with the Chattahoochee River | +898 | Gwinnett County (Unincorporated Areas).
| Just upstream of Bush Road | +913
Mill Creek Tributary (Stream 6.1) | Approximately 140 feet upstream of the confluence with Mill Creek (Stream 6) | +898 | City of Berkeley Lake, Gwinnett County (Unincorporated Areas).
| Approximately 260 feet upstream of Bayway Circle | +975
Mitchell Creek | At the county boundary | +1,014 | Gwinnett County (Unincorporated Areas).
| Approximately 910 feet upstream of South Puckett Lane | +1,133
No Business Creek | Approximately 895 feet downstream of the county boundary | +741 | Gwinnett County (Unincorporated Areas).
| Approximately 840 feet upstream of Scenic Highway/State Highway 124 | +1,010
Tributary No. 1 | Approximately 900 feet upstream of the confluence with No Business Creek | +900 | City of Snellville, Gwinnett County (Unincorporated Areas).
| Approximately 280 feet upstream of Green Valley Road | +930
North Fork Peachtree Creek | At the county boundary | +931 | Gwinnett County (Unincorporated Areas).
| Approximately 1,370 feet upstream of Greenwood Drive | +980
Palm Creek | At the confluence with Alcovy River | +796 | Gwinnett County (Unincorporated Areas).
| Approximately 3,410 feet upstream of Brooks Road | +960
Tributary A | At the confluence with Palm Creek | +851 | Gwinnett County (Unincorporated Areas).
| Approximately 1,690 feet upstream of Brooks Road | +926
Pew Creek | Approximately 200 feet upstream of the confluence with Yellow River | +874 | City of Lawrenceville, Gwinnett County (Unincorporated Areas).
| Approximately 150 feet upstream of Stone Mountain Street | +1,012
Tributary No. 1 | At the confluence with Pew Creek | +962 | City of Lawrenceville.
| Approximately 330 feet upstream of Scenic Highway/State Highway 124 | +991
Pounds Creek | At the confluence with the Yellow River | +815 | Gwinnett County (Unincorporated Areas).
| Approximately 1,290 feet upstream of Brownlee Road | +958
Redland Creek | At the confluence with Pew Creek | +889 | City of Lawrenceville, Gwinnett County (Unincorporated Areas).
| Approximately 280 feet upstream of Northdale Road/Redland Court | +1,029
Richland Creek | Approximately 160 feet upstream of the confluence with the Chattahoochee River | +918 | City of Buford, City of Sugar Hill, Gwinnett County (Unincorporated Areas).
| Just upstream of Cole Road | +1,095
Tributary No. 1 | At the confluence with Richland Creek | +952 | Gwinnett County (Unincorporated Areas).
| Just upstream of Stewart Road | +1,013
Tributary No. 2 | At the confluence with Richland Creek | +1,008 | City of Buford, Gwinnett County (Unincorporated Areas).
| Just upstream of Pine Hollow Way | +1,036
Rock Creek | At the county boundary | +960 | Gwinnett County (Unincorporated Areas).
| Approximately 5,080 feet upstream of Bailey Road | +1,000
Rogers Creek | Approximately 1,940 feet upstream of the confluence with the Chattahoochee River | +903 | City of Duluth, Gwinnett County (Unincorporated Areas).
| Approximately 4,375 feet upstream of Bridlewood Drive | +1,035
Salmon Branch | At the confluence with Pounds Creek | +827 | Gwinnett County (Unincorporated Areas).
| Approximately 610 feet upstream of Ridgeland County | +870
Sherwood Creek | At the county boundary | +921 | Gwinnett County (Unincorporated Areas).
| Approximately 1,950 feet upstream of West Rock Quarry Road | +963
Shetley Creek | At the confluence with Bromolow Creek | +893 | Gwinnett County (Unincorporated Areas).
| Approximately 260 feet upstream of Castlerock Drive | +940
Shoal Creek | At the confluence with Alcovy River | +832 | City of Lawrenceville, Gwinnett County (Unincorporated Areas).
| Approximately 1,980 feet upstream of Ezzard Street | +986
Singleton Creek | At the confluence with Sweetwater Creek | +885 | Gwinnett County (Unincorporated Areas).
| Approximately 4,970 feet upstream of Duluth Highway/State Highway 120 | +947
Stream 1 | Approximately 550 feet upstream of the confluence with the Chattahoochee River | +887 | Gwinnett County (Unincorporated Areas).
| Approximately 500 feet upstream of Allenhurst Drive | +931
Stream 2 | Approximately 510 feet upstream of the confluence with the Chattahoochee River | +889 | Gwinnett County (Unincorporated Areas).
| Approximately 2,500 feet upstream of Jones Bridge Circle | +949
Stream 3 | Approximately 1,540 feet upstream of the confluence with the Chattahoochee River | +892 | Gwinnett County (Unincorporated Areas).
| Approximately 3,115 feet upstream of Edgerton Drive | +942
Stream 4 | Approximately 900 feet upstream of the confluence with the Chattahoochee River | +894 | Gwinnett County (Unincorporated Areas).
| Approximately 440 feet upstream of Avala Park Lane | +957
Stream 5 | Approximately 1,640 feet upstream of the confluence with the Chattahoochee River | +898 | Gwinnett County (Unincorporated Areas).
| Approximately 265 feet upstream of Bush Road | +918
Stream 8 | Approximately 1,030 feet upstream of the confluence with the Chattahoochee River | +900 | Gwinnett County (Unincorporated Areas).
| Just upstream of Howell Springs Drive | +970
Stream 10 | Approximately 1,540 feet upstream of the confluence with the Chattahoochee River | +908 | City of Duluth, Gwinnett County (Unincorporated Areas).
| Approximately 2,310 feet upstream of Buford Highway/U.S. Highway 23/State Highway 13 | +1,025
Sugar Lake (Singleton Creek) | Entire shoreline | +949 | Gwinnett County (Unincorporated Areas).
Suwanee Creek | Approximately 3,300 feet upstream of the confluence with the Chattahoochee River | +908 | City of Buford, City of Rest Haven, City of Suwanee, Gwinnett County (Unincorporated Areas).
| At the county boundary | +1,113
Tributary No. 1 | At the confluence with Suwanee Creek | +911 | City of Duluth, Gwinnett County (Unincorporated Areas).
| Approximately 590 feet upstream of Buford Highway/U.S. Highway 231/State Highway 13 | +942
Tributary No. 2 | Approximately 700 feet upstream of the confluence with Suwanee Creek | +997 | City of Buford.
| Just upstream of Buford Highway/State Highway 13 | +1,024
Tributary No. 3 | At the confluence with Suwanee Creek | +1,025 | City of Buford.
| Approximately 170 feet upstream of Roberts Street | +1,071
Tributary No. 4 | At the confluence with Suwanee Creek | +1,059 | City of Buford, City of Rest Haven.
| At the county boundary | +1,081
Sweetwater Creek | At the confluence with the Yellow River | +855 | Gwinnett County (Unincorporated Areas).
| Just upstream of Bristol Lane | +961
Tributary No. 1 | At the confluence with Sweetwater Creek | +864 | Gwinnett County (Unincorporated Areas).
| Approximately 355 feet upstream of Cruse Road | +891
Tributary No. 2 | At the confluence with Sweetwater Creek | +874 | Gwinnett County (Unincorporated Areas).
| Approximately 1,300 feet upstream of Sweetwater Road | +887
Swilling Creek | Approximately 1,600 feet upstream of the confluence with the Chattahoochee River | +899 | City of Duluth.
| Approximately 1,620 feet upstream of Tree Summit Parkway | +976
Swilling Creek Tributary | At the confluence with Swilling Creek | +927 | City of Duluth.
| Approximately 140 feet upstream of South Whippoorwill Drive | +972
Tribble Creek | At the confluence with Alcovy River | +807 | Gwinnett County (Unincorporated Areas).
| Approximately 1,520 feet upstream of Leach Drive | +932
Tributary A | At the confluence with Tribble Creek | +896 | Gwinnett County (Unincorporated Areas).
| Approximately 2,690 feet upstream of Chandler Road | +929
Tributary B | At the confluence with Tribble Creek | +932 | Gwinnett County (Unincorporated Areas).
| Approximately 145 feet upstream of McConell Road | +957
Turkey Creek | At the confluence with the Yellow River | +836 | Gwinnett County (Unincorporated Areas).
| Approximately 530 feet upstream of Highpoint Road | +950
Unnamed Tributary to North Fork Peachtree Creek | Approximately 1,525 feet downstream of Crescent Drive | +934 | Gwinnett County (Unincorporated Areas).
| Approximately 2,375 feet upstream of Best Friend Road | +965
Watson Creek | At the confluence with the Yellow River | +834 | City of Snellville, Gwinnett County (Unincorporated Areas).
| Approximately 7,040 feet upstream of Bruckner Boulevard | +999
Watson Creek Tributary | At the confluence with Watson Creek | +907 | Gwinnett County (Unincorporated Areas).
| Approximately 360 feet upstream of Highpoint Road | +945
Wheeler Creek | Approximately 320 feet downstream of the county boundary | +837 | Gwinnett County (Unincorporated Areas).
| Approximately 420 feet upstream of Flowery Branch Road | +930
Wildcat Creek | Approximately 980 feet downstream of Russell Road | +969 | Gwinnett County (Unincorporated Areas).
| Approximately 300 feet upstream of Russell Road | +980
Wolf Creek | At the confluence with the Yellow River | +903 | Gwinnett County (Unincorporated Areas).
| Approximately 560 feet upstream of Tab Roberts Road | +963
Yellow River | At the county boundary | +744 | City of Lawrenceville, Gwinnett County (Unincorporated Areas).
| Approximately 165 feet upstream of Azalea Drive | +1,087
Tributary No. 1 | At the confluence with the Yellow River | +856 | Gwinnett County (Unincorporated Areas).
| Approximately 965 feet upstream of Shannon Way | +932
Tributary No. 2 | At the confluence with the Yellow River | +857 | Gwinnett County (Unincorporated Areas).
| Approximately 225 feet upstream of Innsfail Drive | +981
Tributary No. 3 | At the confluence with the Yellow River | +870 | Gwinnett County (Unincorporated Areas).
| Approximately 210 feet upstream of Sugarloaf Parkway | +978
Tributary No. 3.1 | At the confluence with the Yellow River Tributary No. 3 | +892 | Gwinnett County (Unincorporated Areas).
| Approximately 305 feet upstream of Rocky Road | +938
# Depth in feet above ground.
* National Geodetic Vertical Datum.
+ North American Vertical Datum.
¹ The existing elevation data included on the effective FIRM is printed in the elevation datum of the National Geodetic Vertical Datum of 1929 (NGVD29). In order to convert this printed elevation data from the NGVD29 datum to the NAVD88 datum please add 0.118 feet.
ADDRESSES
City of Berkeley Lake
Maps are available for inspection at City Hall, 4040 South Berkeley Lake Road, Berkeley Lake, Georgia.
Town of Braselton
Maps are available for inspection at Braselton Town Hall, 4982 Highway 53, Braselton, Georgia.
City of Buford
Maps are available for inspection at City Hall, 95 Scott Street, Buford, Georgia.
City of Dacula
Maps are available for inspection at Dacula City Hall, 442 Harbins Road, Dacula, Georgia.
City of Duluth
Maps are available for inspection at the Planning Department, 3578 West Lawrenceville Street, Duluth, Georgia.
Gwinnett County (Unincorporated Areas)
Maps are available for inspection at Gwinnett County, One Justice Square, 446 West Crogan Street, Suite 275, Lawrenceville, Georgia.
City of Lawrenceville
Maps are available for inspection at 70 South Clayton Street, Lawrenceville, Georgia.
City of Lilburn
Maps are available for inspection at 76 Main Street, Lilburn, Georgia.
City of Norcross
Maps are available for inspection at City Hall—Community Development Department, 65 Lawrenceville Street, Norcross, Georgia.
City of Rest Haven
Maps are available for inspection at the City of Rest Haven, 101 City Hall Street, Buford, Georgia.
City of Snellville
Maps are available for inspection at the Planning Office, 2460 Main Street East, Snellville, Georgia.
City of Sugar Hill
Maps are available for inspection at Sugar Hill—Planning and Development, 4988 West Broad Street, Sugar Hill, Georgia.
City of Suwanee
Maps are available for inspection at the Planning and Community Development, 373 Highway 23, Suwanee, Georgia.
Hall County, Georgia and Incorporated Areas
Docket No.: FEMA-B-7457
Balus Creek Tributary No. 1 | At confluence with Balus Creek | +1,101 | City of Gainesville.
Duncan Creek | At the county boundary | +878 | Hall County (Unincorporated Areas).
| Approximately 1,550 feet upstream of Spout Springs Road | +960 | Town of Braselton.
Flat Creek Tributary No. 1 | At confluence with Flat Creek | +1,158 | Hall County (Unincorporated Areas), City of Gainesville.
| Approximately 340 feet upstream of the confluence with Flat Creek | +1,158
Sherwood Creek | Approximately 950 feet upstream of its confluence with Mulberry Creek | +843 | Hall County (Unincorporated Areas).
| At the county boundary | +922
Suwanee Creek | At the county boundary | +1,112 | Hall County (Unincorporated Areas).
| Approximately 105 feet upstream of the county boundary | +1,119
Tributary No. 4 | At the county boundary | +1,082 | Hall County (Unincorporated Areas), Town of Rest Haven.
| Approximately 300 feet upstream of the county boundary | +1,082 |
# Depth in feet above ground.
* National Geodetic Vertical Datum.
+ North American Vertical Datum.
¹ The existing elevation data included on the effective FIRM is printed in the elevation datum of the National Geodetic Vertical Datum of 1929 (NGVD29). In order to convert this printed elevation data from the NGVD29 datum to the NAVD88 datum, please add 0.06 feet.
ADDRESSES
Town of Braselton
Maps are available for inspection at Braselton Town Hall, 4982 Highway 53, Braselton, Georgia.
City of Gainesville
Maps are available for inspection at the Department of Public Works, 300 Green Street, Suite 300, Gainesville, Georgia.
Hall County (Unincorporated Areas)
Maps are available for inspection at the Hall County Engineer Division, 300 Green Street, Room 309, Gainesville, Georgia.
City of Oakwood
Maps are available for inspection at City Hall, 4035 Walnut Circle, Oakwood, Georgia.
City of Rest Haven
Maps are available for inspection at the City of Rest Haven, 101 City Hall, Buford, Georgia.
Paulding County, Georgia and Incorporated Areas
Docket No.: FEMA-B-7456
McClendon Creek | At the confluence with Tallapoosa River and Mud Creek | +1,133 | Paulding County (Unincorporated Areas).
| Approximately 300 feet upstream of confluence with Tallapoosa River and Mud Creek | +1,133 |
# Depth in feet above ground.
* National Geodetic Vertical Datum
+ North American Vertical Datum:
¹ The existing elevation data included on the effective FIRM is printed in the elevation datum of the National Geodetic Vertical Datum of 1929 (NGVD29). In order to convert this printed elevation data from the NGVD29 datum to the NAVD88 datum, please add 0.23 feet.
ADDRESSES
Unincorporated areas of Paulding County
Maps are available for inspection at the Paulding County Planning and Zoning Department, 25 Courthouse Square, Dallas, Georgia 30132.
Dekalb County, Indiana and Incorporated Areas
Docket No.: FEMA-B-7457
Cedar Creek | County Road 72 | +816 | DeKalb County (Unincorporated Areas) City of Auburn, Town of Waterloo.
| Approximately 1,700 feet upstream of County Road 20 | +905 |
St. Joe River | Approximately 10,400 feet downstream of County Road 68 | +791 | Dekalb County (Unincorporated Areas).
| Approximately 7,600 feet upstream of County Road 79 | +813 | Town of St. Joe.
Little Cedar Creek | Approximately 1,800 feet downstream of County Road 327 | +818 | Dekalb County (Unincorporated Areas).
| Approximately 2,000 feet upstream of confluence Harvey Guthrie Ditch | +857 |
Black Creek | Approximately 800 feet upstream of confluence with Little Cedar Creek | +830 | Dekalb County (Unincorporated Areas).
| Approximately 3,600 feet upstream of State Road 3 | +853 |
Fish Creek | Approximately 5,000 feet downstream of County Road 79 | +840 | Dekalb County (Unincorporated Areas).
| Approximately 4,000 feet upstream of County Road 65A | +884 |
Peckhart Drain | Approximately at confluence with Diehl Drain | +861 | Dekalb County (Unincorporated Areas).
| Approximately at County Road 40 | +877 | City of Auburn
Diehl Drain | Approximately at confluence with Cedar Creek | +847 | Dekalb County (Unincorporated Areas).
| Approximately 100 feet upstream of County Road 15 | +878 | City of Auburn, City of Garrett.
# Depth in feet above ground.
* National Geodetic Vertical Datum.
+ North American Vertical Datum.
ADDRESSES
DeKalb County
Maps available for inspection at DeKalb County Planning Commission, 301 S. Union Street, Auburn, Indiana.
Town of Hamilton
Maps are available for inspection at the Zoning Administrator's Office, 7750 South Wayne Street, Hamilton, Indiana.
City of Auburn
Maps available for inspection at the Building, Planning and Development Department 210 Cedar Street, Auburn, Indiana.
City of Butler
Maps available for inspection at Butler City Utility Office, 201 South Broadway, Butler, Indiana.
City of Garrett
Maps available for inspection at Garrett Planning Department, 130 South Randolph Street, Garrett, Indiana.
Town of Corunna
Maps available for inspection at Corunna Town Hall, 102 N. Bridge Street, Corunna, Indiana.
Town of Waterloo
Maps available for inspection at Town Hall, 280 N. Wayne Street, Waterloo, Indiana.
Town of St. Joe
Maps available for inspection at St. Joe Town Hall, 102 Third Street, St. Joe, Indiana.
Town of Ashley
Maps available for inspection at Clerk-Treasurer's Office, 500 S. Gonser Avenue, Ashley, Indiana.
Town of Altona
Maps available for inspection at Town Clerk-Treasurer's Office, 1202 W. Quincy Street, Garrett, Indiana.
Oakland County, Michigan and Incorporated Areas
Docket No.: FEMA-B-7453
Clinton River (near Grand Trunk Western R.R. and Maceday Lake) | Approximately 360 feet downstream of I-75 | +1,010 | Township of Independence and City of the Village of Clarkston.
| Approximately 70 feet upstream of Dixie Highway | +973 |
Clinton River (near Sylvan Lake) | Approximately 3,100 feet upstream of Cooley Lake Rd | +934 | Charter Township of Waterford, Township of West Bloomfield, City of Keego Harbor, and City of Pontiac.
| Upstream side of Dawson Millpond Dam | +928 |
Clinton River (near Grand Trunk Western R.R. and Galloway Creek) | Approximately 700 feet downstream of Squirrel Road | +844 | City of Auburn Hills.
| Approximately 50 feet upstream of Hamlin Road | +837 |
Duck Creek | Approximately 40 feet downstream of Ortonville Rd. (2nd crossing) | +941 | Village of Ortonville.
| At confluence with Kearsley Creek | +930 |
Huron River | Approximately 1,600 feet upstream of Monteagle St | +904 | Village of Milford.
| Approximately 1,900 feet downstream of Peters St | +902 |
Kearsley Creek | Approximately 20 feet downstream of Granger Road | +941 | Village of Ortonville.
| Approximately 10 feet upstream of Oakwood Road | +924
Norton Creek | Approximately 3,800 feet downstream of I-96 | +927 | City of Wixom.
| Approximately 1,900 feet upstream of Buno Road | +907
Pebble Creek | Approximately 60 feet upstream of Drakeshire Dr | +949 | Township of West Bloomfield.
| Approximately 30 feet upstream of 14 Mile Road | +892
Pettibone Creek | Approximately 2,000 feet upstream of Summit St | +949 | Village of Milford.
| At confluence with Huron River | +902
Quarton Branch | Approximately 160 feet downstream of Redding Street | +747 | City of Birmingham.
| Upstream side of Quarton Lake Dam | +737
Sargent Creek | Approximately 150 feet downstream of Heritage Hills Manor | +968 | City of Rochester Hills.
| Approximately 130 feet downstream of Adams Road | +941
Hummer Lake |  | +1,050 | Township of Brandon.
Seymour Lake |  | +1,042 | Township of Brandon.
Lake Louise |  | +965 | Township of Brandon.
Bald Eagle |  | +970 | Township of Brandon.
Square Lake |  | +992 | Township of Orion.
Elkhorn Lake |  | +987 | Township of Orion.
Tommys Lake |  | +987 | Township of Orion.
Round Lake |  | +986 | Township of Orion.
Lake Sixteen |  | +986 | Township of Orion.
Voorheis Lake |  | +984 | Township of Orion.
Judah Lake |  | +990 | Township of Orion.
Lonesome Lake |  | +998 | Township of Orion.
Long Lake |  | +968 | Township of Orion.
Bunny Run Lake |  | +967 | Township of Orion.
Buckhorn Lake |  | +989 | Township of Orion.
Greens Lake |  | +998 | Township of Orion.
Dark Lake |  | +1,001 | Township of Orion.
Deer Lake |  | +973 | Township of Independence and City of the Village of Clarkston.
Parke Lake |  | +991 | Township of Independence and City of the Village of Clarkston.
Middle Lake |  | +973 | Township of Independence and City of the Village of Clarkston.
Mill Lake | Downstream of Miller Road | +1,000 | Township of Independence and City of the Village of Clarkston.
| Upstream of Miller Road | +1,002
Mill Lake | Approximately 10 feet downstream of Baldwin Road | +983 | Township of Orion.
| Approximately 1,700 feet downstream of Waldon Road | +981
Lake Orion |  | +987 | Village of Lake Orion and Township of Orion.
Sylvan Lake |  | +929 | City of Keego Harbor, City of Pontiac, City of Sylvan Lake, and Charter Township of Waterford.
Cass Lake |  | +931 | City of Keego Harbor, Township of West Bloomfield, Charter Township of Waterford, and City of Orchard Lake Village.
Dawson Mill Pond |  | +929 | City of Pontiac.
Otter Lake |  | +929 | Charter Township of Waterford.
# Depth in feet above ground.
* National Geodetic Vertical Datum.
+ North American Vertical Datum.
ADDRESSES
Oakland County (Unincorporated Areas)
Maps available for inspection at http//www.co.oakland.mi.us/oss/
Addison Township
Maps are available for inspection at Addison Township, 1440 Rochester Road, Leonard, MI.
Bloomfield Township
Maps are available for inspection at Water Department, 4200 Telegraph Road, Bloomfield Hills, MI 48302.
Brandon Township
Maps are available for inspection at Building Department, Brandon Township, 395 Mill Street, Ortonville, MI 48462.
City of Auburn Hills
Maps are available for inspection at Clerks Office, 1827 North Squirrel Road, Auburn Hills, MI 48326.
City of Birmingham
Maps are available for inspection at Municipal building, 151 Martin Street, Birmingham, MI 48012.
City of Bloomfield Hills
Maps are available for inspection at City of Bloomfield Hills, 45 East Long Lake Road, Bloomfield Hills, MI 48304.
City of Farmington
Maps are available for inspection at Public Service Department, 33720 West Nine Mile Road, Farmington, MI 48335.
City of Farmington Hills
Maps are available for inspection at City of Farmington Hills Engineering, 31555 West Eleven Mile Road, Farmington Hills, MI.
City of Keego Harbor
Maps are available for inspection at Keego Harbor City Hall, 2141 Cass Lake Road., Suite # 101, Keego Harbor, MI 48320.
City of Lake Angelus
Maps are available for inspection at City Hall, 45 Gallogly Road, Lake Angelus, MI 48326.
City of Northville
Maps are available for inspection at City Hall, 215 West Main Street, Northville, MI.
City of Orchard Lake Village
Maps are available for inspection at City Hall, 3955 Orchard Lake Road, Orchard Lake, MI.
City of Pontiac
Maps are available for inspection at City Engineering Department, 55 Wessen Street, Pontiac, MI and Community Development Office, 1200 Featherstone Road, Pontiac, MI.
City of Rochester
Maps are available for inspection at City Hall, 400 Sixth Street, Rochester, MI.
City of Rochester Hills
Maps are available for inspection at Department of Public Safety/Engineering Department, 1000 Rochester Hills Drive, Rochester Hills, MI 48309.
City of South Lyon
Maps are available for inspection at City of South Lyon, 335 South Warren Street, South Lyon, MI.
City of Southfield
Maps are available for inspection at Engineering Department, 26000 Evergreen Road, Southfield, MI.
City of Sylvan Lake
Maps are available for inspection at City Hall, 1820 Inverness Street, Sylvan Lake, MI.
City of The Village of Clarkston
Maps are available for inspection at City Office, 375 Depot Road, Clarkston, MI.
City of Troy
Maps are available for inspection at Engineering Department, 500 West Big Beaver Road, Troy, MI 48084.
City of Walled Lake
Maps are available for inspection at City Hall, 1499 East West Maple Road, Walled Lake, MI 48390.
City of Wixom
Maps are available for inspection at Building Department, 49045 Pontiac Tr., Wixom, MI.
Commerce Township
Maps are available for inspection at Commerce Building Department, 2840 Fisher Avenue, Commerce, MI 48390.
Groveland Township
Maps are available for inspection at 4695 Grange Hall Road, Holly, MI.
Highland Township
Maps are available for inspection at Charter Township of Highland Planning Department, 205 North John Street, Highland, MI.
Holly Township
Maps are available for inspection at Holly Township Hall, 102 Civic Drive, Holly, MI.
Independence Township
Maps are available for inspection at Assessing Department and Building Department, Independence Township 90 North Main Street, Clarkston, MI 48346.
Lyon Township
Maps are available for inspection at Giffels-Webster Engineers, Inc., 2871 Bond Street, Rochester Hills, MI 48309 and Charter of Lyon, 58000 Grand River Avenue, New Hudson, MI 48309.
Milford Township
Maps are available for inspection at Supervisors Office, 1100 Atlantic, Milford, MI 48381.
Novi Township
Maps are available for inspection at 4425 Chedworth Drive, Northville, MI 48167.
Oakland Township
Maps are available for inspection at Township Hall, 4393 Collins Road, Rochester, MI 48306.
Orion Township
Maps are available for inspection at Supervisors Office, 2525 Joslyn Road, Lake Orion, MI 48360.
Rose Township
Maps are available for inspection at Rose Township Hall, 204 Franklin Street, Holly, MI 48442.
Southfield Township
Maps are available for inspection at Township Hall, 18550 West Thirteen Mile Road, Southfield Township, MI 48025.
Village of Beverly Hills
Maps are available for inspection at Village of Beverly Hills, 18500 West Thirteen Mile Road, Beverly Hills, MI 48025.
Village of Bingham Farms
Maps are available for inspection at 24255 West Thirteen Mile Road, Suite 190, Bingham Farms, MI 48025.
Village of Franklin
Maps are available for inspection at Village Hall, 32325 Franklin Road, Franklin, MI 48025.
Village of Holly
Maps are available for inspection at Clerk-Treasurer, 202 South Saginaw Street, Holly, MI 48442.
Village of Lake Orion
Maps are available for inspection at Village of Orion, 37 East Flint Street, Lake Orion, MI 48362.
Village of Milford
Maps are available for inspection at Village Clerk, Ann Collins, 1100 Atlantic Street, Milford, MI 48381.
Village of Ortonville
Maps are available for inspection at 476 Mill Street, Ortonville, MI 48462.
Village of Wolverine Lake
Maps are available for inspection at Village Hall, 425 Glengary Road, Wolverine Lake, MI 48390.
Waterford Township
Maps are available for inspection at Building and Engineering Department, 5200 Civic Center Drive, Waterford, MI 48329.
West Bloomfield Township
Maps are available for inspection at West Bloomfield Township, 4550 Walnut Lake Road, West Bloomfield, MI 48325.
White Lake Township
Maps are available for inspection at Township Hall, Building Department, 7525 Highland Road, White Lake, MI 48383.
Chester County, Pennsylvania and Incorporated Areas
Docket No. FEMA-B-7456
Beaver Creek | Approximately at the Beaver Creek Dam | +503 | Township of East Brandywine and Approximately 3,500 feet upstream from the Beaver Creek Dam Township of West Brandywine.
Boot Road Run | Approximately at Springton Lane Approximately 100 feet upstream of Greenhill Road | +418 +450 | Township of East Goshen.
Valley Creek | Approximately 1,750 feet upstream from the confluence of Valley Creek and East Branch Octoraro Creek | +444 | Township of West Sadsbury.
| Approximately 800 feet upstream from the confluence of Valley Creek and East Branch Octoraro Creek | +444 |
East Branch Octoraro Creek | Approximately 1,550 feet upstream from the confluence of Valley Creek and East Branch Octararo Creek | +444 | Township of West Sadsbury.
| Approximately 800 feet upstream from the confluence of Valley/Creek and East Branch Octararo | +444 |
Beaver Creek | Approximately at the Beaver Creek Dam | +503 | Township of East Brandywine and Township of West Brandywine.
| Approximately 3,500 feet upstream from the Beaver Creek Dam | +503
Boot Road Run | Approximately at Springton Lane | +418 | Township of East Goshen.
| Approximately 100 feet upstream of Greenhill Road | +450
East Branch Octoraro Creek | Approximately 1,550 feet upstream from the confluence of Valley Creek and East Branch Octararo Creek | +444 | Township of West Sadsbury.
| Approximately 800 feet upstream from the confluence of Valley Creek and East Branch Octararo | +444
Hibernia Dam | Approximately at the Hibernia Dam | +588 | Township of West Caln.
| Approximately 75 feet upstream from Martins Corner Road | +612
Valley Creek | Approximately 1,750 feet upstream from the confluence of Valley Creek and East Branch Octoraro Creek | +444 | Township of West Sadsbury.
| Approximately 800 feet upstream from the confluence of Valley Creek and East Branch Octoraro Creek | +444
# Depth in feet above ground.
* National Geodetic Vertical Datum.
+ North American Vertical Datum.
ADDRESSES
Township of East Brandywine
Maps are available for inspection at 110 Hopewell Road, Suite 2, Downingtown, Pennsylvania 19335.
Township of West Brandywine
Maps are available for inspection at West Brandywine Township Building, 198 Lafayette Road, Coatesville, Pennsylvania 19320.
Township of East Goshen
Maps are available for inspection at East Goshen Town Hall, 1580 Paoli Pike, West Chester, Pennsylvania 19380.
Township of West Caln
Maps are available for inspection at West Caln Township Building, 721 W. Kings Highway, Wagontown, PA 19736.
Township of West Sadsbury
Maps are available for inspection at West Sadsbury Township Municipal Building, 6400 N. Moscow Road, Parkesburg, Pennsylvania 19365.
Williamson County, Tennessee and Incorporated Areas
Docket No.: FEMA-B-7454
Aden Camp Branch | At the confluence of Aden Camp Branch with Little Turnbull Creek | +664 | Williamson County (Unincorporated Areas),City of Fairview.
| Approximately 400 feet upstream of Bethshears Road | +873
Aenon Creek | At the confluence of West Fork Aenon Creek | +704 | Williamson County (Unincorporated Areas).
| Approximately 900 feet upstream of confluence of West Fork Aenon Creek | +707
Arkansas Creek | At the confluence of Arkansas Creek with South Harpeth River | +633 | Williamson County (Unincorporated Areas).
| Approximately 9,460 feet upstream of confluence of Harpendene Branch | +700
Arrington Creek | Approximately 4,100 feet upstream of the confluence with Harpeth River | +682 | Williamson County (Unincorporated Areas).
| Approximately 410 feet downstream of Sanford Road | +796
Tributary 1 | At confluence Arrington Creek Tributary 1 with Arrington Creek | +699 | Williamson County (Unincorporated Areas).
| Approximately 1,950 feet upstream of the confluence of Arrington Creek Tributary 2 | +748
Tributary 2 | At confluence Arrington Creek Tributary 2 with Arrington Creek Tributary 1 | +734 | Williamson County (Unincorporated Areas).
| Approximately 2,930 feet upstream of the confluence with Arrington Creek Tributary 1 | +760
Tributary 3 | At confluence Arrington Creek Tributary 3 with Arrington Creek | +736 | Williamson County (Unincorporated Areas).
| Approximately 1,500 feet upstream of the confluence with Arrington Creek Tributary 5 | +758
Tributary 4 | At confluence Arrington Creek Tributary 4 with Arrington Creek Tributary 3 | +743 | Williamson County (Unincorporated Areas).
| Approximately 3,310 feet upstream of the confluence with Arrington Creek Tributary 3 | +760
Tributary 5 | At confluence Arrington Creek Tributary 5 with Arrington Creek Tributary 3 | +747 | Williamson County (Unincorporated Areas).
| Approximately 1,390 feet upstream of the confluence with Arrington Creek Tributary 3 | +760
Big Turnbull Creek | Approximately 2,800 feet upstream of Old Cox Pike | +644 | Williamson County (Unincorporated Areas).
| Approximately 2,240 feet upstream of Old Franklin Road | +685
Brush Creek | Approximately 6,680 feet upstream of confluence of Brush Creek Tributary 1 | +676 | Williamson County, (Unincorporated Areas), City of Fairview.
| Approximately 430 feet upstream of Jones Lane S.E | +820
Tributary 1 | Approximately 40 feet upstream of confluence with Brush Creek | +616 | Williamson County, (Unincorporated Areas), City of Fairview.
| Approximately 150 feet to the northwest of the intersection of Oak Tree Drive and Dody Drive | +824
Burke Branch | At the confluence of Burke Branch with Mayes Creek | +700 | Williamson County (Unincorporated Areas).
| Approximately 2,240 feet upstream of Wilson Pike | +748
Caney Fork Creek | At the confluence of Caney Fork Creek with South Harpeth River | +619 | Williamson County (Unincorporated Areas).
| Approximately 8,300 feet upstream of confluence with South Harpeth River | +656
Dry Branch | Just downstream of Mallory Station Road | +692 | Williamson County (Unincorporated Areas), City of Brentwood, City of Franklin.
| Approximately 80 feet upstream of Moores Lane | +771
Fivemile Creek | At the confluence of Fivemile Creek Tributary 1 with Fivemile Creek | +680 | Williamson County (Unincorporated Areas).
| Approximately 450 feet upstream of Pratt Lane | +711
Tributary 1 | At the confluence of Fivemile Creek Tributary 1 with Fivemile Creek | +680 | Williamson County (Unincorporated Areas).
| Approximately 2,930 feet upstream of Interstate 65 | +746
Flat Creek | Approximately 2,520 feet southeast of the intersection of Flat Creek Road and Reynolds Road | +707 | Williamson County (Unincorporated Areas).
| Approximately 1,370 feet southeast of the intersection of Cross Keys Road and Flat Creek Road | +741
Flat Rock Creek | Approximately 18,840 feet downstream of Horn Tavern Road | +567 | Williamson County, (Unincorporated Areas), City of Fairview.
| Approximately 1,220 feet northwest of the intersection of Cox Pike North and Mary Susan Lane | +807
Tributary 1 | At the confluence of Flat Rock Creek Tributary 1 with Flat Rock Creek | 718 | City of Fairview.
| Approximately 1,880 feet upstream of Highway 96 | +811
Goose Creek | Approximately 700 feet upstream of confluence with Fivemile Creek | 669 | Williamson County (Unincorporated Areas).
| Approximately 260 feet north of the intersection of Goose Creek Bypass and Snowbird Hollow Road | +771
Grassy Branch | Approximately 2,490 feet upstream of Duplex Road | 711 | City of Spring Hill.
| Approximately 2,280 feet upstream of the confluence of Grassy Branch Tributary 1 | +720
Tributary 1 | At the confluence of Grassy Branch Tributary 1 with Grassy Branch | +712 | City of Spring Hill.
| Approximately 480 feet upstream of the confluence with Grassy Branch | +717
Harpendene Branch | At the confluence of Harpendene Branch with Arkansas Creek | +638 | Williamson County (Unincorporated Areas).
| Approximately 7,930 feet upstream of confluence with Arkansas Creek | +695
Harpeth River Tributary 1 | Approximately 3,210 feet upstream of confluence with Harpeth River | +678 | Williamson County (Unincorporated Areas).
| Approximately 310 feet upstream of Murfreesboro Road | +709
Harrison Branch Creek | Approximately 11,600 feet upstream of confluence with Brush Creek | +668 | Williamson County, (Unincorporated Areas), City of Fairview.
| Approximately 1,070 feet northwest of the intersection of Henderson Drive and Fairview Boulevard | +767
Hickman Branch | At the confluence of Hickman Branch with Little Turnbull Creek | +697 | Williamson County, (Unincorporated Areas), City of Fairview.
| Approximately 80 feet northwest of the intersection of Master Shane Road & Cox Run Court | +831
Kelley Creek | At the confluence of Kelley Creek with South Harpeth Creek | +646 | Williamson County (Unincorporated Areas).
| Approximately 220 feet upstream of Taylor Cemetery Road | +688
Liberty Creek | Just downstream of Eddy Lane | +645 | City of Franklin.
| Approximately 85 feet downstream of Hillhaven Lane | +700
Lick Creek | Approximately 560 feet downstream of Porter Branch Road | +646 | Williamson County (Unincorporated Areas).
| At the confluence of South Fork Lick Creek and North Fork Lick Creek | +668
Linton Branch | Approximately 14,000 feet southwest of the intersection of Natchez Bend Road and Pasquo Road | +623 | Williamson County (Unincorporated Areas).
| Approximately 9,400 feet southwest of the intersection of Natchez Bend Road and Pasquo Road | +645
Little Harpeth River | Approximately 410 feet downstream of Moores Lane | +708 | City of Brentwood.
| Approximately 2,250 feet upstream of Carriage Hills Drive | +741
Tributary 1 | Approximately 840 feet upstream of confluence with Little Harpeth River | +629 | City of Brentwood.
| Approximately 1,355 feet upstream of River Oaks Road | +654
Tributary 2 | Approximately 240 feet upstream of Country Club Drive | +645 | City of Brentwood.
| Approximately 30 feet downstream of Maryland Way | +710
Tributary 3 | At the confluence of Little Harpeth River Tributary 3 with Little Harpeth River Tributary 2 | +664 | City of Brentwood.
| Approximately 35 feet downstream of Centerview Drive | +690
Tributary 4 | Approximately 1,590 feet upstream of confluence with Little Harpeth River | +656 | City of Brentwood.
| Approximately 480 feet upstream of Shenandoah Drive | +692
Tributary 5 | At the confluence of Little Harpeth River Tributary 5 with Little Harpeth River Tributary 4 | +660 | City of Brentwood.
| Approximately 85 feet downstream of Mayfield Place | +708
Tributary 6 | At the confluence of Little Harpeth River Tributary 6 with Little Harpeth River Tributary 4 | +692 | City of Brentwood.
| Approximately 1,455 feet upstream of Old Smyrna Road | +726
Tributary 7 | At the confluence of Little Harpeth River Tributary 7 and Little Harpeth River Tributary 8 | +676 | City of Brentwood.
| Approximately 1,605 feet upstream of Wikle Road | +744
Tributary 8 | At the confluence of Little Harpeth River Tributary 7 and Little Harpeth River Tributary 8 | +676 | Williamson County (Unincorporated Areas).
| Approximately 2,745 feet upstream of General Macarthur Drive | +722
Tributary 9 | At the confluence of Little Harpeth River Tributary 9 and Little Harpeth River Tributary 7 | +707 | City of Brentwood.
| Approximately 850 feet upstream of Ashby Drive | +890
Tributary 10 | At the confluence of Little Harpeth River Tributary 10 and Little Harpeth River Tributary 7 | +679 | City of Brentwood.
| Approximately 220 feet downstream of Vaden Drive | +744
Tributary 11 | At the confluence of Little Harpeth River Tributary 11 and Little Harpeth River Tributary 10 | +701 | City of Brentwood.
| Approximately 4,520 feet upstream of Interstate 65 | +754
Little Turnbull Creek | Approximately 1,720 feet downstream of Crow Cut Road | +599 | Williamson County (Unincorporated Areas), City of Fairview.
| Approximately 4,320 feet upstream of confluence of Little Turnbull Creek Tributary 1 | +822
Tributary 1 | At the confluence of Little Turnbull Creek Tributary 1 with Little Turnbull Creek | +756 | City of Fairview.
| Approximately 2,360 feet upstream of confluence with Little Turnbull Creek | +819
Mayes Creek | Just downstream of North Chapel Road | +664 | Williamson County (Unincorporated Areas).
| Approximately 5,400 feet upstream of Tulloss Road | +753
McCanless Branch | At the confluence of McCanless Branch with Arrington Creek | +734 | Williamson County (Unincorporated Areas).
| Approximately 3,480 feet upstream of Old Horton Highway | +757
McCrory Creek | Just downstream of McDaniel Road | +682 | Williamson County (Unincorporated Areas).
| Approximately 300 feet upstream of Arno-College Grove Road | +733
McCutcheon Creek | Approximately 740 feet downstream of Amacher Drive | +743 | City of Spring Hill.
| Approximately 1,240 feet upstream of Amacher Drive | +760
Mill Creek | Approximately 400 feet upstream of Rocky Fork Road | +612 | Williamson County (Unincorporated Areas), Town of Nolensville.
| Approximately 11,080 feet upstream of Rocky Fork Road | +661
North Fork Lick Branch | At the confluence with North Fork Lick Branch with Lick Creek | +668 | Williamson County (Unincorporated Areas).
| Approximately 5,040 feet upstream of Old Lick Creek Road | +688
Overall Creek | Approximately 1,320 feet upstream of confluence with Harpeth River | +709 | Williamson County (Unincorporated Areas).
| Approximately 720 feet upstream of Horton Highway | +769
South Fork Lick Branch | At the confluence of South Fork Lick Branch with Lick Creek | +668 | Williamson County (Unincorporated Areas).
| Approximately 210 feet upstream of South Lick Creek Road | +677
South Harpeth Creek | At the confluence of South Harpeth Creek with South Harpeth River | +633 | Williamson County (Unincorporated Areas).
| At the confluence of Kelley Creek | +646
South Harpeth Creek | Approximately 590 feet upstream of confluence of Caney Fork Creek | +619 | Williamson County (Unincorporated Areas).
| At the confluence of South Harpeth Creek | +633
Starnes Creek | Just downstream of Arno Road | +675 | Williamson County (Unincorporated Areas).
| Approximately 920 feet upstream of State Route 840 | +755
Unnamed Tributary 2 to Harpeth River | Approximately 1,200 feet upstream of Eddy Lane | +640 | City of Franklin.
| Approximately 580 feet upstream of Jordan Road | +680
Unnamed Tributary to Mill Creek | Approximately 1,270 feet upstream of confluence with Mill Creek | +603 | Williamson County (Unincorporated Areas), Town of Nolensville.
| Approximately 2,140 feet upstream of Clovercroft Road | +667
West Fork Aenon Creek | At the confluence of West Fork Aenon Creek with Aenon Creek | +704 | Williamson County (Unincorporated Areas).
| Approximately 5,840 feet upstream of the confluence with Aenon Creek | +721
# Depth in feet above ground.
* National Geodetic Vertical Datum.
+ North American Vertical Datum.
ADDRESSES
Unincorporated Areas of Williamson County
Maps are available for inspection at the Williamson County Complex, Planning Department, 1320 West Main Street, Suite 125, Franklin, TN 37064.
City of Brentwood
Maps are available for inspection at Brentwood City Hall, 5211 Maryland Way, Brentwood, TN 37027.
City of Fairview
Maps are available for inspection at Fairview City Hall, 1874 Fairview Boulevard, Fairview, TN 37062.
City of Franklin
Maps are available for inspection at Franklin City Hall, 109 Third Avenue South, Franklin, TN 37064.
Town of Nolensville
Maps are available for inspection at Nolensville Town Hall, 7240 Nolensville Road, Suite 102, Nolensville, TN 37135.
City of Spring Hill
Maps are available for inspection at Spring Hill City Hall, 199 Town Center Parkway, Spring Hill, TN 37174.
Fayette County, Texas and Incorporated Areas
Docket No.: FEMA-B-7457
Buckner's Creek | Confluence with Colorado River | +257 | Fayette County (Unincorporated Areas).
| Approximately 250 feet upstream of the intersection of FM609 and Buckner's Creek | *269
Colorado River | Approximately 1500 feet downstream from the confluence with Duty's Creek | +223 | Fayette County (Unincorporated Areas).
| Approximately 2.74 miles upstream from the confluence with Benton's Creek | *298
# Depth in feet above ground.
* National Geodetic Vertical Datum.
+ North American Vertical Datum.
ADDRESSES
Unincorporated Areas of Fayette County
Maps are available for inspection at 151 No. Washington Street, La Grange, TX 78945.
City of La Grange
Maps are available for inspection at 155 Colorado, La Grange, TX 78945.
Fayette Co. W.C.& I.D.—Monument Hill
Maps are available for inspection at 151 No. Washington Street, La Grange, TX 78945.

(Catalog of Federal Domestic Assistance No. 83.100, “Flood Insurance.”)

Dated: November 6, 2006.
David I. Maurstad,
Director, Mitigation Division, Federal Emergency Management Agency, Department of Homeland Security.

[FR Doc. E6-19118 Filed 11-13-06; 8:45 am]

BILLING CODE 9110-12-P